NUCLEAR REGULATORY COMMISSION

[Docket Nos. 50-237 and 50-249]

Dresden Nuclear Power Station, Units 2 and 3; Notice of Withdrawal of Application for Amendment to Facility Operating License

The U.S. Nuclear Regulatory Commission (the Commission) has granted the request of Exelon Generation Company, LLC (the licensee) to withdraw its December 20, 2002, application for proposed amendment to Facility Operating License Nos. DPR-19 and DPR-25 for the Dresden Nuclear Power Station, Units 2 and 3, located in Grundy County, Illinois.

The proposed amendment would have revised the applicability of facility technical specifications pertaining to Reactor Protection System (RPS) instrumentation, main steam isolation valve closure and turbine condenser vacuum—low functions, to eliminate the requirement for these functions be operable while in Mode 2 with reactor pressure greater than or equal to 600 psig and delete the associated Required Action to align with the revised applicability of these functions.

The Commission had previously issued a Notice of Consideration of Issuance of Amendment published in the Federal Register on March 18, 2003, (68 FR 12952). However, by letter dated October 1, 2003, the licensee withdrew the proposed change.

For further details with respect to this action, see the application for amendment dated December 20, 2002, and the licensee's letter dated October 1, 2003, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by email to pdr@nrc.gov.

Dated at Rockville, Maryland, this 2nd day of November 2003.
For the Nuclear Regulatory Commission.
Maitri Banerjee,
Project Manager, Section 2, Project Directorate III, Division of Licensing Project Management, Office of Nuclear Reactor Regulation.

[FR Doc. 03-28067 Filed 11-6-03; 8:45 am]

BILLING CODE 7590-01-P